DEPARTMENT OF THE INTERIOR

Fish and Wildlife Service

Endangered Species Recovery Permit Application

AGENCY: Fish and Wildlife Service, Interior.

ACTION: Notice of receipt of permit application.

SUMMARY: The following applicant has applied for a scientific research permit to conduct certain activities with an endangered species pursuant to section 10(a)(1)(A) of the Endangered Species Act (16 U.S.C. 1531 et seq.). The U.S. Fish and Wildlife Service (“we”) solicits review and comment from the public, and from local, State, and Federal agencies on the following permit request.

DATES: Comments on this permit application must be received on or before January 9, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the permit number for the application when submitting comments. All comments received, including names and addresses, will become part of the official administrative record and may be made available to the public.

FOR FURTHER INFORMATION CONTACT: Documents and other information submitted with the application are available for review, subject to the requirements of the Privacy Act and Freedom of Information Act, by any party who submits a written request for a copy of such documents to the address above. Please refer to the permit number for the application when requesting copies of documents.

SUPPLEMENTARY INFORMATION:

Permit No. TE-106344

Applicant: Anne Veillet, Keaau, Hawaii.

The applicant requests a permit to take (capture, collect biological samples, and band) the nene (Branta sandvicensis) in conjunction with genetic research on the island of Hawaii in the State of Hawaii for the purpose of enhancing its survival.

We solicit public review and comment on this recovery permit application.

Dated: November 21, 2005.
David J. Wesley,
Acting Regional Director, Region 1, U.S. Fish and Wildlife Service.

[FR Doc. E5-7108 Filed 12-8-05; 8:45 am]

BILLING CODE 4310-55-P